DEPARTMENT OF HOMELAND SECURITY

Transportation Security Administration

Extension of Agency Information Collection Activity Under OMB Review: Cybersecurity Measures for Surface Modes

AGENCY: Transportation Security Administration, DHS.

ACTION: 30-Day notice.

SUMMARY: This notice announces that the Transportation Security Administration (TSA) has forwarded the Information Collection Request (ICR), Office of Management and Budget (OMB) control number 1652-0074, abstracted below, to OMB for an extension of the currently approved collection under the Paperwork Reduction Act (PRA). The ICR describes the nature of the information collection and its expected burden. Specifically, the collection involves the submission of data concerning the designation of a Cybersecurity Coordinator; the reporting of cybersecurity incidents to the Cybersecurity and Infrastructure Security Agency (CISA); the development of a cybersecurity contingency/recovery plan to address cybersecurity gaps; and the completion of a cybersecurity assessment.

DATES: Send your comments by May 9, 2022. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on December 23, 2021, 86 FR 72988.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Cybersecurity Measures for Surface Modes.

Type of Request: Extension.

OMB Control Number: 1652-0074.

Form(s): TSA Optional Forms. TSA Surface Cybersecurity Vulnerability Assessment Form.

Affected Public: Owner/Operators with operations that identified in 49 CFR part 1580 (Freight Rail), 49 CFR part 1582 (Mass Transit and Passenger Rail), and 49 CFR part 1584 (Over-the-Road Bus).

Abstract: Under the authorities of 49 U.S.C. 114, TSA may take immediate action to impose measures to protect transportation security without providing notice or an opportunity for comment.¹ On November 30, 2021, OMB approved TSA's request for emergency approval of the collections of information within Security Directive (SD) 1580-21-01, SD 1582-21-02, and an “information circular” (IC) all issued on December 2, 2021. The OMB approval allowed for the institution of mandatory reporting requirements under the SDs and collection of information voluntarily submitted under the IC. As OMB emergency approval is only valid for six months, TSA is now seeking renewal of this information collection for the maximum three-year approval period.

¹ TSA issues security directives (SDs) for surface transportation operators under the statutory authority of 49 U.S.C. 114(l)(2)(A). This provision, from section 101 of the Aviation and Transportation Security Act (ATSA), Public Law 107-71 (115 Stat. 597; Nov. 19, 2001), states: “Notwithstanding any other provision of law or executive order (including an executive order requiring a cost-benefit analysis), if the Administrator determines that a regulation or security directive must be issued immediately in order to protect transportation security, the Administrator shall issue the regulation or security directive without providing notice or an opportunity for comment and without prior approval of the Secretary.”

The cybersecurity threats to surface transportation infrastructure that necessitate these collections are consistent with TSA's mission, as well as TSA's responsibility and authority for “security in all modes of transportation . . . including security responsibilities . . . over modes of transportation that are exercised by the Department of Transportation.” See 49 U.S.C. 114(d). The SDs require, and the IC recommends, the following security measures:

1. Designate a Cybersecurity Coordinator and alternate Cybersecurity Coordinator and provide contact information to TSA; these individuals are to be available to TSA 24/7 to coordinate cybersecurity practices, address any incidents that arise, and serve as a principal point of contact with TSA and CISA for cybersecurity-related matters;

2. Report cybersecurity incidents to CISA;

3. Develop a cybersecurity incident response plan to reduce the risk of operational disruption should an owner/operator's Information and/or Operational Technology systems be affected by a cybersecurity incident; and

4. Complete a cybersecurity vulnerability assessment to address cybersecurity gaps using the form provided by TSA and submit the form to TSA.

Number of Respondents: 781.

Estimated Annual Burden Hours: An estimated 96,163 hours annually.

Dated: April 4, 2022.
Christina A. Walsh,
TSA Paperwork Reduction Act Officer, Information Technology.

[FR Doc. 2022-07370 Filed 4-6-22; 8:45 am]

BILLING CODE 9110-05-P